ENVIRONMENTAL PROTECTION AGENCY

[ER-FRL-6675-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 7, 2006 (71 FR 17845).

Draft EISs

EIS No. 20060042, ERP No. D-NPS-E65079-TN, Great Smoky Mountains National Park General Management Plan Amendment, Implementation, Elkmont Historic District, Sevier County, TN.

Summary: EPA does not object to the proposed action.

Rating LO.

EIS No. 20060090, ERP No. D-AFS-F65061-WI, Fishbone Project Area, Vegetation and Road Management, Implementation, Washburn Ranger District, Chequamegon-Nicolet National Forest, Bayfield County, WI.

Summary: EPA supports the preferred alternative, but recommends that the Final EIS include additional information on cumulative impacts to sensitive species.

Rating EC2.

EIS No. 20060110, ERP No. D-AFS-J65459-MT, Whitetail-Pipestone Travel Management, Develop Site-Specific Travel Management Plan, Jefferson and Butte Ranger Districts, Beaverhead-Deerlodge National Forest, Jefferson and Silver Bow Counties, MT.

Summary: EPA expressed environmental concerns about adverse impacts from roads and motorized use to water quality, aquatic habitat and wildlife. The final EIS should consider modifying the preferred alternative to further reduce sedimentation from road erosion by decreasing road densities and stream crossings and improving road conditions.

Rating EC2.

Final EISs

EIS No. 20050495, ERP No. F-SFW-E65074-NC, Roanake River National Wildlife Refuge, Comprehensive Conservation Plan, To Determine and Evaluate a Range of Reasonable Management Alternative, Bertie County, NC.

Summary: No formal comment letter was sent to the preparing agency.

EIS No. 20060102, ERP No. F-NOA-D81036-WV, Canaan Valley Institute Office Complex, Proposes to Construct: Offices, Classrooms, Laboratories, 250-Seat Auditorium, Parking Facilities, Outdoor Classrooms and Interpretive Areas, U.S. Army COE Section 404 Permit, Southeast of the Towns of Davis and Thomas, Tucker County, WV.

Summary: EPA does not object to the proposed action.

Dated: May 23, 2006.
Robert W. Hargrove,
Director, NEPA Compliance Division, Office of Federal Activities.

[FR Doc. E6-8147 Filed 5-25-06; 8:45 am]

BILLING CODE 6560-50-P